DEPARTMENT OF ENERGY

Federal Energy Regulatory Commission

Combined Notice of Filings #1

Take notice that the Commission received the following exempt wholesale generator filings:

Docket Numbers: EG18-117-000.

Applicants: Persimmon Creek Wind Farm 1, LLC.

Description: Notice of Self-Certification of Exempt Wholesale Generator Status of Persimmon Creek Wind Farm 1, LLC.

Filed Date: 8/1/18.

Accession Number: 20180801-5036.

Comments Due: 5 p.m. ET 8/22/18.

Take notice that the Commission received the following electric rate filings:

Docket Numbers: ER10-3169-014.

Applicants: Michigan Power Limited Partnership.

Description: Notice of Non-Material Change in Status of Michigan Power Limited Partnership.

Filed Date: 8/1/18.

Accession Number: 20180801-5074.

Comments Due: 5 p.m. ET 8/22/18.

Docket Numbers: ER17-2059-001.

Applicants: Puget Sound Energy, Inc.

Description: Notice of Non-Material Change in Status of Puget Sound Energy, Inc.

Filed Date: 7/31/18.

Accession Number: 20180731-5231.

Comments Due: 5 p.m. ET 8/21/18.

Docket Numbers: ER18-614-004.

Applicants: Monongahela Power Company, PJM Interconnection, L.L.C.

Description: Compliance filing: PJM TOs submit compliance filing re: Commission's 7/2/2018 order in ER18-614 to be effective 12/31/9998.

Filed Date: 8/1/18.

Accession Number: 20180801-5110.

Comments Due: 5 p.m. ET 8/22/18.

Docket Numbers: ER18-1174-000.

Applicants: Imperial Valley Solar 2, LLC.

Description: Report Filing: Supplement to 2 to be effective N/A.

Filed Date: 7/27/18.

Accession Number: 20180727-5200.

Comments Due: 5 p.m. ET 8/17/18.

Docket Numbers: ER18-2071-001.

Applicants: Niagara Mohawk Power Corporation, New York Independent System Operator, Inc.

Description: Tariff Amendment: Amendment filing: cancellation notice SA 1755 Niagara Mohawk & Village of Ilion to be effective 9/26/2018.

Filed Date: 8/1/18.

Accession Number: 20180801-5081.

Comments Due: 5 p.m. ET 8/22/18.

Docket Numbers: ER18-2115-000.

Applicants: Wisconsin Public Service Corporation.

Description: § 205(d) Rate Filing: Reactive Power Rate Filing of Wisconsin Public Service Corporation to be effective 10/1/2018.

Filed Date: 7/31/18.

Accession Number: 20180731-5184.

Comments Due: 5 p.m. ET 8/21/18.

Docket Numbers: ER18-2116-000.

Applicants: New England Power Pool Participants Committee.

Description: § 205(d) Rate Filing: August 2018 Membership Filing to be effective 7/1/2018.

Filed Date: 7/31/18.

Accession Number: 20180731-5191.

Comments Due: 5 p.m. ET 8/21/18.

Docket Numbers: ER18-2117-000.

Applicants: Pacific Gas and Electric Company.

Description: § 205(d) Rate Filing: Q2 2018 Quarterly Filing of City and County of San Francisco's WDT SA (SA 275) to be effective 6/30/2018.

Filed Date: 7/31/18.

Accession Number: 20180731-5198.

Comments Due: 5 p.m. ET 8/21/18.

Docket Numbers: ER18-2118-000.

Applicants: Armadillo Flats Wind Project, LLC.

Description: Baseline eTariff Filing: Armadillo Flats Wind Project, LLC Application for Market-Based Rates to be effective 10/1/2018.

Filed Date: 7/31/18.

Accession Number: 20180731-5205.

Comments Due: 5 p.m. ET 8/21/18.

Docket Numbers: ER18-2119-000.

Applicants: Pioneer Transmission LLC, Midcontinent Independent System Operator, Inc.

Description: Regulatory Asset Request of Pioneer Transmission LLC and Midcontinent Independent System Operator, Inc.

Filed Date: 7/31/18.

Accession Number: 20180731-5206.

Comments Due: 5 p.m. ET 8/21/18.

Docket Numbers: ER18-2120-000.

Applicants: Jersey Central Power & Light Company, PJM Interconnection, L.L.C.

Description: § 205(d) Rate Filing: Jersey Central Power & Light Company submits IA SA No. 5030 to be effective 9/30/2018.

Filed Date: 8/1/18.

Accession Number: 20180801-5032.

Comments Due: 5 p.m. ET 8/22/18.

Docket Numbers: ER18-2121-000.

Applicants: Jersey Central Power & Light Company, PJM Interconnection, L.L.C.

Description: § 205(d) Rate Filing: JCP&L submits one ECSA, Service Agreement No. 5118 to be effective 9/30/2018.

Filed Date: 8/1/18.

Accession Number: 20180801-5052.

Comments Due: 5 p.m. ET 8/22/18.

Docket Numbers: ER18-2122-000.

Applicants: Midcontinent Independent System Operator, Inc.

Description: § 205(d) Rate Filing: 2018-08-01 Order 745 Effective Date True-up Filing to be effective 10/11/2018.

Filed Date: 8/1/18.

Accession Number: 20180801-5055.

Comments Due: 5 p.m. ET 8/22/18.

Docket Numbers: ER18-2123-000.

Applicants: Emera Maine.

Description: Initial rate filing: ReEnergy Ashland LLC TSA to be effective 10/1/2018.

Filed Date: 8/1/18.

Accession Number: 20180801-5071.

Comments Due: 5 p.m. ET 8/22/18.

Docket Numbers: ER18-2124-000.

Applicants: Emera Maine.

Description: Initial rate filing: ReEnergy Fort Fairfield LLC TSA to be effective 10/1/2018.

Filed Date: 8/1/18.

Accession Number: 20180801-5072.

Comments Due: 5 p.m. ET 8/22/18.

Docket Numbers: ER18-2125-000.

Applicants: ISO New England Inc., New England Power Pool Participants Committee.

Description: § 205(d) Rate Filing: ISO-NE and NEPOOL; FCM Cost Allocation Improvements to be effective 10/1/2018.

Filed Date: 8/1/18.

Accession Number: 20180801-5080.

Comments Due: 5 p.m. ET 8/22/18.

Docket Numbers: ER18-2126-000.

Applicants: Duke Energy Florida, LLC.

Description: § 205(d) Rate Filing: DEF-Shady Hills Power Corp LGIA (SA-235/Q181) to be effective 8/2/2018.

Filed Date: 8/1/18.

Accession Number: 20180801-5094.

Comments Due: 5 p.m. ET 8/22/18.

Docket Numbers: ER18-2127-000.

Applicants: Alabama Power Company.

Description: Tariff Cancellation: Terrell County Solar LGIA Termination Filing to be effective 7/12/2018.

Filed Date: 8/1/18.

Accession Number: 20180801-5098.

Comments Due: 5 p.m. ET 8/22/18.

Docket Numbers: ER18-2128-000.

Applicants: Southwest Power Pool, Inc.

Description: § 205(d) Rate Filing: 3458 WAPA, Great River Energy & MISO Interconnection Agr to be effective 4/27/2018.

Filed Date: 8/1/18.

Accession Number: 20180801-5100.

Comments Due: 5 p.m. ET 8/22/18.

Docket Numbers: ER18-2129-000.

Applicants: Midcontinent Independent System Operator, Inc.

Description: § 205(d) Rate Filing: 2018-08-01_SA 3133 WAPA-GRE Interconnection Agreement to be effective 4/27/2018.

Filed Date: 8/1/18.

Accession Number: 20180801-5109.

Comments Due: 5 p.m. ET 8/22/18.

Docket Numbers: ER18-2130-000.

Applicants: PacifiCorp.

Description: § 205(d) Rate Filing: Navajo Tribal Utility Authority—NITSA to be effective 8/1/2018.

Filed Date: 8/1/18.

Accession Number: 20180801-5125.

Comments Due: 5 p.m. ET 8/22/18.

Take notice that the Commission received the following electric securities filings:

Docket Numbers: ES18-48-000.

Applicants: Wolverine Power Supply Cooperative, Inc.

Description: Application for Authorization under Section 204 of the Federal Power Act for Assumption of Liabilities and the Issuance Securities of Wolverine Power Supply Cooperative, Inc.

Filed Date: 7/31/18.

Accession Number: 20180731-5212.

Comments Due: 5 p.m. ET 8/21/18.

Docket Numbers: ES18-49-000; ES18-50-000; ES18-51-000; ES18-52-000; ES18-53-000.

Applicants: Entergy Arkansas, LLC, Entergy Louisiana, LLC, Entergy Mississippi, LLC, Entergy Texas, Inc., System Energy Resources, Inc.

Description: Joint Application for Authorization under Section 204 of the Federal Power Act of Entergy Arkansas, LLC, et al.

Filed Date: 7/31/18.

Accession Number: 20180731-5213.

Comments Due: 5 p.m. ET 8/21/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 1, 2018.
Nathaniel J. Davis, Sr.,
Deputy Secretary.

[FR Doc. 2018-16911 Filed 8-7-18; 8:45 am]

BILLING CODE 6717-01-P